DEPARTMENT OF VETERANS AFFAIRS

[Docket No. VA-2025-VACO-0002]

Loan Guaranty: Assistance to Eligible Individuals in Acquiring Specially Adapted Housing; Cost-of-Construction Index for Fiscal Year 2026

AGENCY: Department of Veterans Affairs.

ACTION: Notice.

SUMMARY: The Department of Veterans Affairs (VA) announces that the aggregate amounts of assistance available under the Specially Adapted Housing (SAH) grant program have increased by 3.87 percent for fiscal year (FY) 2026.

DATES: The increases in the aggregate amounts outlined in this notice were effective as of October 1, 2025.

FOR FURTHER INFORMATION CONTACT: Jason Latona, Assistant Director for Specially Adapted Housing Policy and Native American Direct Loans, Loan Guaranty Service, Veterans Benefits Administration, 202-461-9201.

SUPPLEMENTARY INFORMATION: In accordance with 38 U.S.C. 2102(e), 38 U.S.C. 2102A(b)(2), 38 U.S.C. 2102B(b)(2), and 38 CFR 36.4411, the Secretary of Veterans Affairs announces for FY 2026 the aggregate amounts of assistance available to veterans and service members eligible for SAH program grants.

Section 2102(e)(2) of 38 U.S.C. authorizes the Secretary to increase the aggregate amounts of SAH assistance annually based on a residential home cost-of-construction index. Consistent with 38 CFR 36.4411(a), the Secretary uses the Turner Building Cost Index for this purpose. Such an increase will be equal to the percentage by which the Turner Building Cost Index for the most recent calendar year exceeds that of the next preceding calendar year. If, however, the Turner Building Cost Index for the most recent full calendar year is equal to or less than the next preceding calendar year, the percentage increase will be zero. See 38 CFR 36.4411(b).

In the most recent quarter for which the Turner Building Cost Index is available, second quarter 2025, the index showed a 3.87 percent increase over the index value listed for second quarter 2024. Turner Construction Company, https://www.turnerconstruction.com/cost-index (last visited July 31, 2025). Therefore, pursuant to 38 CFR 36.4411(a), the aggregate amounts of assistance for SAH grants made pursuant to 38 U.S.C. 2101(a) and 2101(b) will increase by 3.87 percent for FY 2026.

Sections 2102A(b)(2) and 2102B(b)(2) require the Secretary to apply the same percentage calculated pursuant to section 2102(e) to grants authorized pursuant to sections 2102A and 2102B. As such, the maximum amount of assistance available under these grants will also increase by 3.87 percent for FY 2026.

The increases were effective as of October 1, 2025. 38 U.S.C. 2102(e), 38 U.S.C. 2102A(b)(2), and 38 U.S.C. 2102B(b)(2).

SAH: Aggregate Amounts of Assistance Available During Fiscal Year 2026

Section 2101(a) Grants and Temporary Residence Adaptation (TRA) Grants

Effective October 1, 2025, the aggregate amount of assistance available for SAH grants made pursuant to 38 U.S.C. 2101(a) will be $126,526 during FY 2026.

The maximum TRA grant made to an individual who satisfies the eligibility criteria under 38 U.S.C. 2101(a) and 2102A will be $50,961 during FY 2026.

Section 2101(b) Grants and TRA Grants

Effective as of October 1, 2025, the aggregate amount of assistance available for SAH grants made pursuant to 38 U.S.C. 2101(b) will be $25,349 during FY 2026.

The maximum TRA grant made to an individual who satisfies the eligibility criteria under 38 U.S.C. 2101(b) and 2102A will be $9,099 during FY 2026.

Section 2102B Grants

Effective as of October 1, 2025, the amount of assistance available for grants made pursuant to 38 U.S.C. 2102B will be $116,084 during FY 2026; however, the Secretary may waive this limitation for a veteran if the Secretary determines a waiver is necessary for the rehabilitation program of the veteran.

Signing Authority

Douglas A. Collins, Secretary of Veterans Affairs, approved this document on November 6, 2025, and authorized the undersigned to sign and submit the document to the Office of the Federal Register for publication electronically as an official document of the Department of Veterans Affairs.

Joseph Montanye,
Alternate Federal Register Liaison Officer, Department of Veterans Affairs.

[FR Doc. 2025-20047 Filed 11-17-25; 8:45 am]

BILLING CODE 8320-01-P